ELECTION ASSISTANCE COMMISSION

Sunshine Act; Notice of Meeting

AGENCY: U.S. Election Assistance Commission.

ACTION: Notice of closed meeting agenda.

DATE AND TIME: Wednesday, August 25, 2010. 9-11 a.m. EDT.

PLACE: U.S. Election Assistance Commission, 1201 New York Ave, NW, Washington, D.C. 20005.

AGENDA: Commissioners will hold a closed session discussion regarding a personnel matter on the appointment of an EAC general counsel.

* View EAC Regulations Implementing Government in the Sunshine Act. This meeting will be closed to the public.

PERSON TO CONTACT FOR INFORMATION: Bryan Whitener, Telephone: (202) 566-3100.

Thomas R. Wilkey,
Executive Director, U.S. Election Assistance Commission.

[FR Doc. 2010-20592 Filed 8-16-10; 4:15 pm]

BILLING CODE 6820-KF-P